NUCLEAR REGULATORY COMMISSION

[Docket Nos. 50-369 and 50-370]

Duke Energy Corporation, McGuire Nuclear Station, Units 1 and 2; Notice of Availability of the Final Supplement 8 to the Generic Environmental Impact Statement Regarding License Renewal for the McGuire Nuclear Station, Units 1 and 2

Notice is hereby given that the U.S. Nuclear Regulatory Commission (the Commission) has published a final plant-specific supplement to the Generic Environmental Impact Statement (GEIS), NUREG-1437, regarding the renewal of operating licenses NPF-9 and NPF-17 for the McGuire Nuclear Station, Units 1 and 2, for an additional 20 years of operation. The McGuire Nuclear Station units are located in Mecklenburg County, North Carolina. Possible alternatives to the proposed action (license renewal) include no action and reasonable alternative methods of power generation.

As discussed in Section 9.3 of this final Supplement 8 to the GEIS, the staff recommends that the Commission determine that the adverse environmental impacts of license renewal for McGuire Nuclear Station, Units 1 and 2, are not so great that preserving the option of license renewal for energy planning decision makers would be unreasonable. This recommendation is based on (1) The analysis and findings in the GEIS; (2) the Environmental Report submitted by Duke; (3) consultation with Federal, State, and local agencies; (4) the staff's own independent review; and (5) the staff's consideration of public comments.

The final Supplement 8 to the GEIS is available electronically for public inspection in the NRC Public Document Room (PDR) located at One White Flint North, 11555 Rockville Pike (first floor), Rockville, Maryland, or from the Publicly Available Records (PARS) component of NRC's Agencywide Documents Access and Management System (ADAMS). ADAMS is accessible from the NRC Web site at http://www.nrc.gov (the Public Electronic Reading Room). Persons who do not have access to ADAMS, or who encounter problems in accessing the documents located in ADAMS, should contact the PDR reference staff at 1-800-397-4209, 301-415-4737, or by e-mail to pdr@nrc.gov.

FOR FURTHER INFORMATION CONTACT: Mr. James H. Wilson, License Renewal and Environmental Impacts Program, Division of Regulatory Improvement Programs, U.S. Nuclear Regulatory Commission, Washington, DC 20555. Mr. Wilson may be contacted at 301-415-1108 or by writing to James H. Wilson, U.S. Nuclear Regulatory Commission, Mail Stop O 12-D-1.

Dated at Rockville, Maryland, this 24th day of December, 2002.
For the Nuclear Regulatory Commission.
Pao-Tsin Kuo,
Program Director, License Renewal and Environmental Impacts Program, Division of Regulatory Improvement Programs, Office of Nuclear Reactor Regulation.

[FR Doc. 03-80 Filed 1-2-03; 8:45 am]

BILLING CODE 7590-01-P